NUCLEAR REGULATORY COMMISSION

[Docket No. 040-09068; License SUA-1598; NRC-2008-0391]

Lost Creek ISR, LLC, Lost Creek Uranium In-Situ Recovery Project; Sweetwater County, Wyoming

AGENCY: Nuclear Regulatory Commission.

ACTION: Environmental assessment and finding of no significant impact for license amendment, correction.

SUMMARY: This document corrects a notice appearing in the Federal Register on April 3, 2013 [78 FR 20146], that listed, in tabular format, documents that related to the notice. This action will correct an incorrect listing of an Agencywide Document Access and Management System (ADAMS) Accession Number contained in the table found on page 20147.

FOR FURTHER INFORMATION CONTACT: Mr. Alan B. Bjornsen, Project Manager, Office of Federal and State Materials and Environmental Management Programs, U.S. Nuclear Regulatory Commission, Washington, DC 20555-0001; telephone: 301-415-1195; email: Alan.Bjornsen@nrc.gov.

SUPPLEMENTARY INFORMATION: On page 20147, in the table found at the bottom of the page, the item “Letter WDEQ, Request for Comments, ADAMS Accession No. ML12305A410” was inadvertently included, and should be removed. The document contains pre-conditional information that was not to be made publicly available.

Dated at Rockville, Maryland, this 9th day of May, 2013.
For the Nuclear Regulatory Commission.
Kevin Hsueh,
Chief, Environmental Review Branch, Division of Waste Management and Environmental Protection, Office of Federal and State Materials and Environmental Management Programs.

[FR Doc. 2013-11709 Filed 5-15-13; 8:45 am]

BILLING CODE 7590-01-P